OFFICE OF THE UNITED STATES TRADE REPRESENTATIVE

[Docket No. WTO/DS-267]

WTO Dispute Settlement Proceeding Regarding United States Subsidies to Upland Cotton

AGENCY: Office of the United States Trade Representative.

ACTION: Notice; request for comments.

SUMMARY: The Office of the United States Trade Representative (USTR) is providing notice that on March 18, 2003, a dispute settlement panel was established at the request of the Government of Brazil under the Marrakesh Agreement Establishing the World Trade Organization (“WTO”) to examine “subsidies provided to U.S. producers, users and/or exporters of upland cotton.” Brazil alleges that these subsidies are inconsistent with the obligations of the United States under the General Agreement on Tariffs and Trade 1994 (“GATT 1994”), the Agreement on Agriculture (“Agriculture Agreement”), and the Agreement on Subsidies and Countervailing Measures (“Subsidies Agreement”). USTR invites written comments from the public concerning the issues raised in this dispute.

DATES: Although the USTR will accept any comments received during the course of the dispute settlement proceedings, comments should be submitted on or before August 15, 2003, to be assured of timely consideration by USTR.

ADDRESSES: Comments should be submitted (i) Electronically, to fr0088@ustr.gov, Attn: “United States—Subsidies on Upland Cotton” in the subject line, or (ii) by fax, to Sandy McKinzy (Attn: United States—Subsidies on Upland Cotton) at 202-395-3640, with a confirmation copy sent electronically to the e-mail address above.

FOR FURTHER INFORMATION CONTACT: Juan A. Millán, Assistant General Counsel, Office of the United States Trade Representative, 600 17th Street, NW., Washington, DC (202) 395-3581, or Sharon Bomer Lauritsen, Deputy Assistant USTR for Agricultural Affairs, (202) 395-6127.

SUPPLEMENTARY INFORMATION: Pursuant to Section 127(b) of the Uruguay Round Agreements Act (URAA) (19 U.S.C. 3537(b)(1)), USTR is providing notice that on February 6, 2003, Brazil requested the establishment of a WTO dispute settlement panel to examine Brazil's allegations concerning “subsidies provided to U.S. producers, users and/or exporters of upland cotton.” On March 18, 2003, a WTO dispute settlement panel was established to consider this matter, and on May 19, 2003, the panel was composed by the WTO Direct General. The panel, which will hold its meetings in Geneva, Switzerland, is expected to issue a report on its findings and recommendations in January 2004. Argentina, Australia, Benin, Canada, Chad, China, Chinese Taipei, the European Communities, India, New Zealand, Pakistan, Paraguay, and Venezuela have notified the WTO of their intention to participate as third parties.

Major Issues Raised by Brazil

Brazil has challenged alleged “prohibited and actionable subsidies provided [by the United States] to U.S. producers, users and/or exporters of upland cotton, as well as legislation, regulations and statutory instruments and amendments thereto providing such subsidies (including export credit guarantees), grants, and any other assistance to the U.S. producers, users and exporters of upland cotton (‘U.S. upland cotton industry').” Specific programs identified by Brazil include marketing loans, loan deficiency payments, commodity certificates, direct payments, counter-cyclical payments, Step 2 certificate payments, export credit guarantees, and crop insurance.

Brazil contends that these U.S. measures, as such and as applied, are inconsistent with the obligations of the United States under Articles III:4, XVI:1, and XVI:3 of the GATT 1994; Articles 3.3, 7.1, 8, 9.1, and 10.1 of the Agriculture Agreement; and Articles 3.1(a), 3.1(b), 3.2, 5(a), 5(c), 6.3(b), 6.3(c), 6.3(d), and item (j) of the Illustrative List of Export Subsidies of the Subsidies Agreement.

Public Comment: Requirements for Submissions

Interested persons are invited to submit written comments concerning the issues raised in the dispute. Persons submitting comments may either send one copy by fax to Sandy McKinzy at 202-395-3640, or transmit a copy electronically to fr0088@ustr.gov, with “United States—Subsidies on Upland Cotton” in the subject line. For documents sent by fax, USTR requests that the submitter provide a confirmation copy electronically. USTR encourages the submission of documents in Adobe PDF format, as attachments to an electronic mail.

Interested persons who make submissions by electronic mail should not provide separate cover letters; information that might appear in a cover letter should be included in the submission itself. Similarly, to the extent possible, any attachments to the submission should be included in the same file as the submission itself and not as separate files.

A person requesting that information contained in a comment submitted by that person by treated as confidential business information must certify that such information is business confidential and would not customarily be released to the public by the submitter. Confidential business information must be clearly marked “BUSINESS CONFIDENTIAL” at the top and bottom of the cover page and each succeeding page of the submission.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” at the top and bottom of the cover page and each succeeding page of the submission; and

(3) Is encouraged to provide a non-confidential summary of the information or advice.

Pursuant to section 127(e) of the URAA (19 U.S.C. 3537(e)), USTR will maintain a file on this dispute settlement proceeding, accessible to the public, in the USTR Reading Room, located at 1724 F Street, NW., Washington, DC 20508. The public file will include non-confidential comments received by USTR from the public with respect to the dispute; the U.S. submissions to the panel in the dispute, the submissions, or non-confidential summaries of submissions, to the panel received from other participants in the dispute, as well as the report of the panel; and, if applicable, the report of the Appellate Body. An appointment to review the public file may be made by calling the Reading Room at (202) 395-6186. The USTR Reading Room is open to the public from 9:30 a.m. to 12 noon and 1 p.m. to 4 p.m., Monday through Friday.

Daniel E. Brinza,
Assistant United States Trade Representative for Monitoring and Enforcement.

[FR Doc. 03-19556 Filed 7-31-03; 8:45 am]

BILLING CODE 3190-01-M